DEPARTMENT OF DEFENSE

Office of the Secretary

Defense Intelligence Agency National Intelligence University Board of Visitors; Notice of Federal Advisory Committee Meeting

AGENCY: National Intelligence University, Defense Intelligence Agency, Department of Defense.

ACTION: Notice of closed meeting.

SUMMARY: The Department of Defense is publishing this notice to announce that the following Federal Advisory Committee meeting of the National Intelligence University Board of Visitors has been scheduled. The meeting is closed to the public.

DATES: Tuesday, June 19, 2018 (7:30 a.m. to 5:15 p.m.) and Wednesday, June 20, 2018 (7:30 a.m. to 1:00 p.m.).

ADDRESSES: Defense Intelligence Agency 7400 Pentagon, ATTN: NIU, Washington, DC 20301-7400.

FOR FURTHER INFORMATION CONTACT: Dr. J. Scott Cameron, President, Defense Intelligence Agency National Intelligence University, Washington, DC 20340-5100, Phone: (301) 243-2118.

SUPPLEMENTARY INFORMATION: Due to circumstances beyond the control of the Department of Defense (DoD) and the Designated Federal Officer, the National Intelligence University Board of Visitors was unable to provide public notification required by 41 CFR 102-3.150(a) concerning the meeting on June 19, 2018 through June 20, 2018, of the National Intelligence University Board of Visitors. Accordingly, the Advisory Committee Management Officer for the Department of Defense, pursuant to 41 CFR 102-3.150(b), waives the 15-calendar day notification requirement.

Purpose: The National Intelligence University Board of Visitors will discuss several current critical intelligence issues and advise the Director, Defense Intelligence Agency, as to the successful accomplishment of the mission assigned to the National Intelligence University.

Agenda: The following topics are listed on the National Intelligence University Board of Visitors meeting agenda: Welcome and opening remarks by the President and Board Chair; Accreditation Update; Follow-up on presentations made at June 2017 meeting; Legislative Update, Board Business and Executive Sessions; Working Lunch with Intelligence Community Senior Leaders.

The entire meeting is devoted to the discussion of classified information as defined in 5 U.S.C. 552b(c)(1) and therefore will be closed. Pursuant to 41 CFR 102-3.105(j) and 102-3.140, and section 10(a)(3) of the Federal Advisory Committee Act of 1972, the public or interested organizations may submit written statements to the National Intelligence University Board of Visitors about its mission and functions. Written statements may be submitted at any time or in response to the stated agenda of a planned meeting of the National Intelligence University Board of Visitors. All written statements shall be submitted to the Designated Federal Officer for the National Intelligence University Board of Visitors, and this individual will ensure that the written statements are provided to the membership for their consideration. Contact information for the Designated Federal Officer can be obtained from the GSA's FACA Database— http://www.facadatabase.gov/.

Dated: June 11, 2018.
Shelly E. Finke,
Alternate OSD Federal Register Liaison Officer, Department of Defense.

[FR Doc. 2018-12901 Filed 6-14-18; 8:45 am]

BILLING CODE 5001-06-P